DEPARTMENT OF ENERGY

Federal Energy Regulatory Commission

[Project No. 2934-029]

New York State Electric & Gas Corporation; Notice of Ready for Environmental Analysis, and Soliciting Comments, Recommendations, Preliminary Terms and Conditions, and Preliminary Fishway Prescriptions

Take notice that the following hydroelectric application has been filed with the Commission and is available for public inspection.

a. Type of Application: New Major License.

b. Project No.: 2934-029.

c. Date Filed: April 1, 2019.

d. Applicant: New York State Electric & Gas Corporation (NYSEG).

e. Name of Project: Upper Mechanicville Hydroelectric Project.

f. Location: The existing project is located on the Hudson River, in Saratoga and Rensselaer Counties, New York. The project does not occupy any federal land.

g. Filed Pursuant to: Federal Power Act, 16 U.S.C. 791(a)-825(r).

h. Applicant Contact: David W. Dick, Manager, NYSEG and RG&E Hydro Engineering, 1300 Scottsville Road, Rochester, NY 14624; (585) 724-8535; david_dick@rge.com.

i. FERC Contact: Jody Callihan, (202) 502-8278 or jody.callihan@ferc.gov.

j. Deadline for filing comments, recommendations, preliminary terms and conditions, and preliminary fishway prescriptions: 60 days from the issuance date of this notice; reply comments are due 105 days from the issuance date of this notice.

All filings must (1) bear in all capital letters the title COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person submitting the filing; and (4) otherwise comply with the requirements of 18 CFR 385.2001 through 385.2005. All comments, recommendations, preliminary terms and conditions or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b) and 385.2010.

The Commission strongly encourages electronic filing. Please file comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2934-029.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Upper Mechanicville Hydroelectric Project consists of: (1) A 700-foot-long concrete gravity dam with a crest elevation of 66.6 feet National Geodetic Vertical Datum of 1929 (NGVD29); (2) 3 spillway bays each extending 222 feet across the length of the dam and separated by a 7.5-foot to 10.5-foot-wide concrete pier, with each spillway bay containing 12 pneumatic Obermeyer crest gates that are 6 feet high; (3) a 1.8-mile-long impoundment with a 380-acre surface area and gross storage capacity of 10,735 acre-feet at a normal pool elevation of 72.6 feet NGVD29; (4) an intake channel with two reinforced guide walls and three 35-foot-diameter cofferdam walls constructed of sheet piling; (5) a 20-foot-wide and 7.5-foot-high intake bypass sluice gate; (6) a 105.5-foot-long by 122-foot-wide powerhouse containing two 12,780 horsepower Kaplan turbines and two Siemens-Allis generators each having a rated capacity of 8,265 kilowatts; (7) a tailrace approximately 1,200 feet long and 120 feet wide with a bi-level bottom designed to minimize cross-currents; (8) one 1.10-mile-long, 34.5-kilovolt transmission line; and (9) appurtenant facilities.

During the non-navigation season (typically from December 1 through April 30), NYSEG operates the project in a run-of-river (ROR) mode and maintains the impoundment at an elevation of 72.6 feet NGVD29. During the navigation season (typically May 1 through November 30), NYSEG periodically spills water to lower the impoundment up to 3 feet below full pool, as directed by the New York State Canal Corporation, to accommodate navigation at lock C-3, and uses all available remaining inflow (that is not used to support navigation) for generation purposes. NYSEG proposes to continue operating the project as it does currently, to support both generation and navigation. In addition, NYSEG proposes to enhance fish passage at the project by: (1) Installing upstream passage for American eel (4 years post-license); (2) developing an agreement with the New York State Canal Corporation to modify lock operations to accommodate the upstream passage of blueback herring and American shad (commencing 2 years post-license); and (3) modifying the project's intake bypass sluice gate to provide an additional route of downstream fish passage from April 1 through November 30. The project currently generates an annual average of 88,537 megawatt-hours.

m. A copy of the application is available for review at the Commission in the Public Reference Room or may be viewed on the Commission's website at http://www.ferc.gov using the eLibrary link. Enter the docket number excluding the last three digits in the docket number field to access the document. For assistance, contact FERC Online Support at FERCOnlineSupport@ferc.gov or toll-free at 1-866-208-3676, or for TTY, (202) 502-8659. A copy is also available for inspection and reproduction at the Mechanicville District Public Library located at 190 North Main Street, Mechanicville, NY 12118 and the A.E. Diver Memorial Library located at 136 Main Street, Schaghticoke, NY 12154.

You may also register online at http://www.ferc.gov/docs-filing/esubscription.asp to be notified via email of new filings and issuances related to this or other pending projects. For assistance, contact FERC Online Support.

n. Procedural Schedule: The application will be processed according to the following revised schedule. Revisions to the schedule may be made as appropriate.

Milestone | Target date
Filing of recommendations, preliminary terms and conditions, and preliminary fishway prescriptions | January 2020.
Commission issues Environmental Assessment (EA) | July 2020.
Comments on EA | August 2020.
Modified Terms and Conditions | October 2020.

o. Final amendments to the application must be filed with the Commission no later than 30 days from the issuance date of this notice.

p. A license applicant must file no later than 60 days following the date of issuance of this notice: (1) A copy of the water quality certification; (2) a copy of the request for the certification, including proof of the date on which the certifying agency received the request; or (3) evidence of waiver of water quality certification.

Dated: November 29, 2019.
Kimberly D. Bose,
Secretary.

[FR Doc. 2019-26255 Filed 12-4-19; 8:45 am]

BILLING CODE 6717-01-P